DEPARTMENT OF TRANSPORTATION

National Highway Traffic Safety Administration

[Docket No. NHTSA 2003-15154; Notice 2]

General Motors North America, Grant of Application for a Decision of inconsequential Noncompliance

General Motors North America (GM), has determined that approximately 251,000 model year 2003 Silverado/Sierra pickup trucks, Tahoe/Suburban/Escalade sport utility vehicles, and Savanna/Express vans do not comply with either paragraph S5.3.3(a) of Federal Motor Vehicle Safety Standard (FMVSS) No. 105, or paragraph S5.5.3 of FMVSS No. 135. The Silverado/Sierra pickup trucks and the Savanna/ Express vans are required to comply with FMVSS No. 105, while the Tahoe/Escalade/Suburban sport utility vehicles are required to comply with FMVSS No. 135, based on gross vehicle weight ratings (GVWR).

Pursuant to 49 U.S.C. 30118(d) and 30120(h), GM has applied for a determination that the noncompliance is inconsequential to motor vehicle safety and has filed an appropriate report pursuant to 49 CFR Part 573, “Defect and Noncompliance Reports.” Notice of receipt of GM's application was published in the Federal Register on June 5, 2003 with a 30-day comment period (68 FR 33758). NHTSA received no comments on this application.

Specifically, the red “Brake” telltale, if illuminated, will be extinguished for the duration of an Antilock Brake System (ABS) activation event that involves the front wheels. Stated briefly, the “Brake” telltale will not be illuminated while ABS is modulating the front brakes. Both FMVSS Nos. 105 and 135 require that the “Brake” telltale, once activated, remain illuminated until the problem that activated the telltale is resolved.

The brake system malfunctions that can cause illumination of “Brake” telltale can result in brake system failure, therefore, it is important that the “Brake” telltale be visible to the driver whenever it is activated. A potential danger of this noncompliance is that the “Brake” telltale may be activated while the ABS is modulating the front brakes, which would momentarily prevent the illumination of the telltale. Also, if the telltale is extinguished for any length of time, the driver may believe the brake system problem has been corrected.

GM considers the momentary extinguishing of the “BRAKE” telltale while ABS is cycling to be inconsequential to motor vehicle safety. According to GM, malfunctions of the foundation brake system that results in “Brake” telltale illumination are rare events and the combination of “Brake” telltale illumination with a simultaneous ABS activation is extremely unlikely.

The owner's manual of the noncompliant vehicles includes the following text regarding the “BRAKE” telltale:

“If the light comes on while you are driving, pull off the road and stop carefully. You may notice that the pedal is harder to push. Or, the pedal may go closer to the floor. It may take longer to stop. If the light is still on, have the vehicle towed for service. CAUTION: Your brake system may not be working properly if the brake system warning light is on. Driving with the brake system warning light on can lead to an accident. If the light is still on after you've pulled off the road and stopped carefully, have the vehicle towed for service.”

According to GM, the instructions and caution are intended to prompt drivers to take immediate corrective action when the “BRAKE” telltale is illuminated, which would minimize the likelihood that the vehicle would experience ABS cycling subsequent to initial illumination of the telltale.

GM further supported the position that the noncompliance is inconsequential to motor vehicle safety by pointing out that S5.3.4 of FMVSS 105 allows the subject “BRAKE” telltale to be “steady burning or flashing.” The corresponding language in S5.5.4 of FMVSS 135 is “continuous or flashing”. This explicit regulatory allowance for flashing demonstrates that momentary absence of telltale illumination is not per se a safety issue.

According to GM, the “Brake” and “ABS” telltales on the subject vehicles otherwise comply with all applicable provisions of paragraph S5.3 of FMVSS 105 and paragraph S5.5 of FMVSS 135 and GM is not aware of any crashes, injuries, owner complaints or field reports related to this condition.

The agency has reviewed paragraph S5.3 of FMVSS No. 105 and paragraph S5.5 of FMVSS No. 135, and concurs with the GM's decision that the extinguishment of the “Brake” telltale during an activation of the ABS would constitute a noncompliance with both standards. We do not have data to define the frequency of brake system malfunctions that activate the “Brake” telltale. Nevertheless, we believe that except in rare instances where fluid lost during a brake application would cause the “Brake” telltale to illuminate, the telltale would already be illuminated prior to the driver making a stop that engaged the ABS. The color red of the “Brake” telltale is one that requires immediate attention and is consistent with the red lamp in a traffic signal that directs the driver to stop.

In consideration of the foregoing, NHTSA has decided that the petitioner has met its burden of persuasion that the noncompliance is inconsequential to motor vehicle safety.

Accordingly, the application is granted and the applicant is exempted from providing the notification and remedy requirements of 49 U.S.C. 30118 and 49 U.S.C. 30120, respectively. (49 U.S.C. 301118, 301120; delegations of authority at 49 CFR 1.50 and 501.8)

Issued on: November 18, 2003.
Stephen R. Kratzke,
Associate Administrator for Rulemaking.

[FR Doc. 03-29201 Filed 11-21-03; 8:45 am]

BILLING CODE 4910-59-P